DEPARTMENT OF COMMERCE

Bureau of the Census

Renewal of the Census Advisory Committees on the Race and Ethnic Populations

AGENCY: Bureau of the Census, Department of Commerce.

ACTION: Notice of advisory committee renewal.

SUMMARY: Notice is hereby given that the Secretary of Commerce has determined that the renewal of the Census Advisory Committee on the African American Population, Census Advisory Committee on the American Indian and Alaska Native Populations, Census Advisory Committee on the Asian Population, Census Advisory Committee on the Hispanic Populations and Census Advisory Committee on the Native Hawaiian and Other Pacific Islander Population are in the public interest in connection with the performance of duties imposed by law on the U.S. Department of Commerce.

FOR FURTHER INFORMATION CONTACT: Contact Jeri Green, Chief, Census Advisory Committee Office, U.S. Census Bureau, Washington, DC 20233, telephone 301-763-2075, Jeri.Green@Census.gov.

SUPPLEMENTARY INFORMATION: In accordance with the provisions of the Federal Advisory Committee Act, Title 5 United States Code App. 2, and the General Services Administration (GSA) rule on Federal Advisory Committee Management, Title 41 Code of Federal Regulations Part 101-6, and after consultation with GSA, the Secretary of Commerce has determined that the renewal of the Census Advisory Committee on the African American Population, Census Advisory Committee on the American Indian and Alaska Native Populations, Census Advisory Committee on the Asian Population, Census Advisory Committee on the Hispanic Populations and Census Advisory Committee on the Native Hawaiian and Other Pacific Islander Population are in the public interest in connection with the performance of duties imposed by law on the U.S. Department of Commerce.

These committees were established in 1970 to obtain expertise relating to major programs, such as the decennial census and American Community Survey. Meeting the standards set forth in Executive Order 12838, in that its charter is of compelling national interest and that other methods of obtaining public participation have been considered, the committees were rechartered in March 2002, February 2004, February 2006, and again in February 2008.

These committees will consist of nine members with a substantial interest in the conduct and outcome of the Census Bureau's communication, decennial, demographic, geographic, Information Technology, and other programs. The committees include representatives from the public and private sectors, community-based organizations, academic institutions, and the public-at-large, which are further diversified by ethnicity, life experience, geographic area, and other variables.

These committees will function solely as advisory bodies and in compliance with provisions of the Federal Advisory Committee Act. Copies of the revised charters are filed with the appropriate committees of Congress and with the Library of Congress.

Dated: March 16, 2010.
Robert M. Groves,
Director, Bureau of the Census.

[FR Doc. 2010-6247 Filed 3-19-10; 8:45 am]

BILLING CODE 3510-07-P